DEPARTMENT OF TRANSPORTATION

Federal Motor Carrier Safety Administration

49 CFR Parts 350, 390, 394, 395 and 398

[Docket No. FMCSA-97-2350; formerly FHWA-97-2350 and MC-96-28]

RIN 2126-AA23

Hours of Service of Drivers; Driver Rest and Sleep for Safe Operations

AGENCY: Federal Motor Carrier Safety Administration (FMCSA), DOT.

ACTION: Notice of proposed rulemaking (NPRM); extension of comment period.

SUMMARY: The FMCSA is extending this rulemaking's comment period until October 30, 2000. This is in response to numerous petitions received by the FMCSA from motor carriers, drivers and trucking associations, and several members of Congress requesting an extension of the comment period closing date. The petitioners based their requests on the time required to review the vast body of research, assess the impact of the proposed rules, and provide meaningful comments.

The FMCSA is also placing in the docket the pre-publication final report on “Effects of Sleep Schedules on Commercial Motor Vehicle Driver Performance,” prepared by the Division of Neuropsychiatry, Walter Reed Army Institute of Research.

DATES: Comments to the NPRM should be received no later than October 30, 2000. Late comments will be considered to the extent practicable.

ADDRESSES: Signed, written comments should refer to the docket number that appears at the top of this document and must be submitted to the Docket Clerk, U.S. DOT Dockets, Room PL-401, 400 Seventh Street, SW., Washington, DC 20590-0001. All comments received will be available for examination at the above address between 9 a.m. and 5 p.m., e.t., Monday through Friday, except Federal holidays. Those desiring notification of receipt of comments must include a self-addressed, stamped envelope or postcard.

FOR FURTHER INFORMATION CONTACT: For information on the proposed rule: Mr. David Miller or Ms. Deborah Freund, Federal Motor Carrier Safety Administration, (202) 366-1790, and Mr. Charles Medalen, Office of the Chief Counsel, Federal Highway Administration, (202) 366-1354. For information about submitting comments and data electronically: DMS Web staff at: Mail. Dockets@tasc.dot.gov, Department of Transportation, 400 Seventh Street, SW.,Washington, DC 20590-0001.

SUPPLEMENTARY INFORMATION: On May 2, 2000 (65 FR 25540), the FMCSA published an NPRM proposing to revise its hours-of-service (HOS) regulations to require motor carriers to provide drivers with better opportunities to obtain sleep, and thereby reduce the risk of drivers operating commercial motor vehicles (CMV) while drowsy, tired, or fatigued to reduce crashes involving these drivers. The FMCSA explained that this action is necessary because we estimate that 755 fatalities and 19,705 injuries occur each year on the nation's roads because of drowsy, tired, or fatigued CMV drivers. The proposed regulations would:

1. Revert to a 24-hour daily cycle, and a 7-day weekly cycle.

2. Adjust the work-rest requirements for various types of operations.

3. Emphasize rest. Require, for long-haul and regional drivers, a period of 10 consecutive hours off duty within each 24-hour cycle, and two hours of additional time off in each 14-hour work period within each 24-hour cycle.

4. Require weekends, or their functional equivalent, to include at a minimum a rest period that includes two consecutive periods from 11 p.m. to 7 a.m.

5. Require the use of electronic on-board recorders in CMVs used by drivers in long-haul and regional operations.

The FMCSA has received petitions from the American Trucking Associations, Commercial Vehicle Safety Alliance, Distribution and LTL Carriers Association, National Private Truck Council and numerous motor carriers, drivers, other industry associations, and members of Congress requesting that the comment period to be extended. The petitioners voiced concerns that the lengthy proposed rule was extremely complex and that 90 days was insufficient time to review the research, assess the impact of the proposed rules on CMV operations, and provide meaningful comments. We agree that more time for in-depth analysis of the NPRM, including the numerous studies involving fatigue, driver physiology, crash data, and operating characteristics of the various CMV operations, by the affected parties, would be beneficial to the FMCSA in this rulemaking. For the reasons above, the FMCSA finds good cause to extend this NPRM comment period closing date for 90 days.

The FMCSA is also placing in the docket the pre-publication final report on “Effects of Sleep Schedules on Commercial Motor Vehicle Driver Performance,” prepared by the Division of Neuropsychiatry, Walter Reed Army Institute of Research.

Authority: 49 U.S.C. 322 and 49 CFR 1.73.

Issued on: June 12, 2000.
Clyde J. Hart, Jr.
Acting Deputy Administrator.

[FR Doc. 00-15416 Filed 6-16-00; 8:45 am]

BILLING CODE 4910-22-P